FEDERAL RETIREMENT THRIFT INVESTMENT BOARD

Notice of Board Meeting

DATES: August 31, 2023 at 10:00 a.m.

ADDRESSES: 77 K Street NE, Washington, DC 20002.

FOR FURTHER INFORMATION CONTACT: Kimberly Weaver, Director, Office of External Affairs, (202) 942-1640.

SUPPLEMENTARY INFORMATION:

Status: Closed to the public.

Board Meeting Agenda

Closed Session

1. Information covered under 5 U.S.C. 552b(c)(4) and (c)(10).

Authority: 5 U.S.C. 552b(e)(1).

Dated: August 17, 2023.
Dharmesh Vashee,
General Counsel, Federal Retirement Thrift Investment Board.

[FR Doc. 2023-18019 Filed 8-21-23; 8:45 am]

BILLING CODE 6760-01-P